DEPARTMENT OF TRANSPORTATION

National Highway Traffic Safety Administration

[Docket No. NHTSA-2016-0116; Notice 1]

Ford Motor Company, Receipt of Petition for Decision of Inconsequential Noncompliance

AGENCY: National Highway Traffic Safety Administration (NHTSA), Department of Transportation (DOT).

ACTION: Receipt of petition.

SUMMARY: Ford Motor Company (Ford), has determined that certain model year (MY) 2015-2017 Ford F-150 and Ford F-Super Duty pickup trucks do not fully comply with Federal Motor Vehicle Safety Standard (FMVSS) No. 202a, Head Restraints. Ford filed a noncompliance information report dated October 18, 2016. Ford also petitioned NHTSA on November 17, 2016, for a decision that the subject noncompliance is inconsequential as it relates to motor vehicle safety.

DATES: The closing date for comments on the petition is January 27, 2017.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview

Ford Motor Company (Ford), has determined that certain model year (MY) 2015-2017 Ford F-150 and Ford F-Super Duty pickup trucks do not fully comply with paragraph S4.2.2 of Federal Motor Vehicle Safety Standard (FMVSS) No. 202a, Head Restraints. Ford filed a noncompliance information report dated October 18, 2016, pursuant to 49 CFR part 573, Defect and Noncompliance Responsibility and Reports. Ford also petitioned NHTSA on November 17, 2016, pursuant to 49 U.S.C. 30118(d) and 30120(h) and 49 CFR part 556, for an exemption from the notification and remedy requirements of 49 U.S.C. Chapter 301 on the basis that this noncompliance is inconsequential as it relates to motor vehicle safety.

This notice of receipt of Ford's petition is published under 49 U.S.C. 30118 and 30120 and does not represent any agency decision or other exercise of judgment concerning the merits of the petition.

II. Vehicles Involved

Approximately 274,321 MY 2015-2017 Ford F-150 and MY 2017 FordF-Super Duty pickup trucks manufactured between March 12, 2014 and September 28, 2016, are potentially involved. The affected vehicles are those equipped with a 4-way adjustable driver and front passenger seat head restraint and a front row center seating position (referred to as a “40/20/40 front seat”).

III. Noncompliance

Ford explains that the noncompliance is that the driver and front passenger seat head restraints in the subject vehicles do not meet the minimum width requirements of paragraph S4.2.2 of FMVSS No. 202a. The head restraints have, on average, a width of 239 mm, which is below the 254 mm minimum width required by the standard.

IV. Rule Text

Paragraph S4.2.2 of FMVSS No. 202a states:

S4.2.2 Width. When measured in accordance with S5.2.2 of this section, 65 ± 3 mm below the top of the head restraint, the lateral width of a head restraint must be not less than 170 mm, except the lateral width of the head restraint for front outboard designated seating positions in a vehicle with a front center designated seating position, must be no less than 254mm . . .

V. Summary of Ford's Petition

Ford described the subject noncompliance and stated its belief that the noncompliance is inconsequential as it relates to motor vehicle safety.

In support of its petition, Ford submitted the following reasoning:

1. Identical bucket seat and head restraint design provides the intended level of protection: The outboard front bucket seats (cushion, back, head restraint) are identical for trucks built with or without a front row center designated seating position (dsp). In fact, it is possible to remove the seats from a subject truck and swap them with the seats from a truck built without a front center dsp. The center area between the two outboard front bucket seats can be configured with a fold down storage console/dsp, center storage console, or nothing. The outboard bucket seats are the same, regardless of the selected center option.

a. Review of preamble discussions (FMVSS No. 202a rulemaking) finds that the main reason for retaining the 254 mm width requirement was concern that “occupants seated on bench seats are freer than occupants of single seats to position themselves so that they are not directly in front of the head restraint, and a bench head restraint needs to be wider to assure that the head restraint will be behind the occupant in event of a crash.” (72 FR 25514)

b. Review of preamble discussions finds that the main reason for retaining the 170 mm width requirement, and not increasing to 254 mm, for “bucket seats” is “. . . front outboard non-bench seats have a defined contour that, in addition to belt use, better prescribe occupant seating position relative to the head restraint. Therefore, the front non-bench head restraints can be narrower than the front bench seat head restraints.” (69 FR 74848)

c. Conclusion: The seat utilized in the subject vehicles are not “bench seats” in the traditional sense of providing a single seating surface that spans the width of the vehicle. All of the characteristics citied by the Agency in supporting the basis for narrower head restraints for bucket seat vehicles are present in the outboard seats of the subject trucks because the outboard bucket seats are identical regardless of how the center area between the seats is configured. The ability for an occupant to position or mis-position themselves in the outboard seat is the same for trucks with or without the center dsp because the seat contours and seat belt anchorage locations are the same. The seats are identical and interchangeable but the head restraint width requirement is different. Ford is not advocating that a narrower head restraint width requirement should apply. Rather, Ford believes that the safety risk the agency sought to address by retaining a wider width requirement for seats with a front center dsp is simply not present in the subject bucket seats because of its contoured design. Regardless how the front center area between the seats is configured, Ford believes that the subject head restraints in the outboard front bucket seats provide the intended level of protection.

2. Seating reference point measurements demonstrate head restraints provide required width protection and intended level of safety:

a. Ford evaluated head restraint width protection using seating reference point measurements (SgRP). In promulgating FMVSS No. 202a, the Agency proposed to “maintain the existing width requirements.” In responding to comments to harmonize the requirements with ECE 17, the agency stated that, “The 254 mm width requirement for these head restraints on bench seats has been in effect since January 1, 1969.” (69 FR 74848). Ford believes that this clearly shows that the agency intended to retain the width requirement as-is in the upgraded standard.

b. In retaining the width requirements, the measurement procedure was revised from “when measured either 64 mm below the top of the head restraint or 635 mm above the seating reference point” to “when measured 65 ± 3 mm below the top of the head restraint.”

c. Ford believes that the position of the occupant's head is determined by their seating position, not by the head restraint. In this case, Ford believes that measuring the head restraint width from the SgRP demonstrates that the subject head restraints provide the intended level of safety. Measuring from the top of the head restraint actually varies the location of the width requirement based on the head restraint design, and is not necessarily based on the position of the occupant's head. Below is a table providing data illustrating how the height of a head restraint affects the location at which the width requirement applies, further it shows how this is different under the original FMVSS No. 202 standard.

Table 1—Comparison of Head Restraint With Measurement Location
Top of head restraint (mm) | Height at width measurement—FMVSS No. 202 (635 mm above SgRP) | Height at width measurement—FMVSS No. 202a (65 mm below top)
700 (FMVSS No. 202) | 635 | 635
750 (FMVSS No. 202a) | 635 | 685
800 (FMVSS No. 202a) | 635 | 735
850 | 635 | 785

d. The height of the adjustable head restraint in the subject trucks ranges from a minimum of 802 mm up to 851 mm, exceeding the height requirements of FMVSS No. 202a by 50 mm.

e. While the agency argued that the existing requirements should not be changed because they meet the need for motor vehicle safety, in the preambles for the FMVSS No. 202a upgrade, no rationale was provided for excluding the option of measuring up from the SgRP or how this option did not meet the need for motor vehicle safety.

f. Conclusion: In the subject trucks, the outboard dsp head restraint width exceeds the requirement when the width is measured 635 mm above the SgRP. This method is based on the occupant seated height and is consistent for all seats and head restraints, and demonstrates that the subject head restraints provide occupants with the intended level of safety.

3. Exemplar measurements demonstrate that the subject head restraints provide required width protection and intended level of safety for all occupants:

a. Ford evaluated head restraint width protection for occupants using a SAEJ826 package manikin. The measured width of the head restraint at the initial point of contact between the head restraint and the head of the manikin is 257 mm. The height at this location is 636 mm above the seating reference point (SgRP).

b. Based on a survey of 15 trucks the highest point on the head restraint that meets the 254 mm width requirement ranged from 674 mm to 721 mm above the SgRP with the head restraint in the full down position. Ford provides the required width across a wide section of the head restraint. Adjusting the head restraint up (up to 50 mm of vertical adjustment is available) further increases the range at which Ford provides the required width. This range of coverage includes occupants as tall and taller than the 95th percentile American male.

c. Conclusion: The subject trucks provide the required width and intended level of safety for all occupants including, and taller than, the 95th percentile American male.

4. Vehicle performance testing demonstrates head restraints provide intended level of safety:

a. Another alternative method for evaluating seat performance is testing. The Ford F-150 meets or exceeds all other FMVSS No. 202a requirements and was rated “Good” by the Insurance Institute for Highway Safety based on dynamic whiplash testing. Based on testing, Ford believes that its head restraints are indeed providing the intended level of safety to occupants.

Ford stated that it has made changes in production to increase the width of the head restraints.

Ford concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Ford no longer controlled at the time it determined that the noncompliance existed. However, any decision on this petition does not relieve vehicle distributors and dealers of the prohibitions on the sale, offer for sale, or introduction or delivery for introduction into interstate commerce of the noncompliant vehicles under their control after Ford notified them that the subject noncompliance existed.

Authority: 49 U.S.C. 30118, 30120: delegations of authority at 49 CFR 1.95 and 501.8.

Jeffrey M. Giuseppe,
Director, Office of Vehicle Safety Compliance.

[FR Doc. 2016-31405 Filed 12-27-16; 8:45 am]

BILLING CODE 4910-59-P